DEPARTMENT OF HEALTH AND HUMAN SERVICES

Health Resources and Services Administration

Advisory Committee on Infant Mortality; Notice of Charter Renewal

SUMMARY: The Department of Health and Human Services (HHS) is hereby giving notice that the Advisory Committee on Infant Mortality (ACIM) has been rechartered. The effective date of the renewed ACIM charter is September 30, 2017.

FOR FURTHER INFORMATION CONTACT: David S. de la Cruz, Ph.D., M.P.H., CAPTAIN, United States Public Health Service, Designated Federal Officer, ACIM, Health Resources and Services Administration (HRSA), HHS, Room 18N25, 5600 Fishers Lane, Rockville, MD 20857. Phone: (301) 443-0543; David.delaCruz@hrsa.gov.

SUPPLEMENTARY INFORMATION: ACIM was established under provisions of 42 U.S.C. 217a, section 222 of the Public Health Service Act, as amended. The Committee is governed by provisions of Public Law 92-463, as amended (5 U.S.C. App.), which sets forth standards for the formation and use of Advisory Committees. ACIM advises the Secretary on Department activities and programs that are directed at reducing infant mortality and improving the health status of pregnant women and infants. The Committee represents a public and private partnership at the highest level to provide guidance and focus attention on the policies and resources required to address the reduction of infant mortality. The Committee also provides advice on how best to coordinate the myriad of federal, state, local, and private programs and efforts that are designed to deal with the health and social problems impacting infant mortality, including the Healthy Start program.

On September 30, 2017, the ACIM charter was renewed. Renewal of the ACIM charter authorizes the Committee to operate until September 30, 2019. A copy of the ACIM charter is available on the Committee's Web site: http://www.hrsa.gov/advisorycommittees/mchbadvisory/InfantMortality/Index.html. A copy of the charter can also be obtained by accessing the Federal Advisory Committee Act (FACA) database that is maintained by the Committee Management Secretariat under the General Services Administration. The Web site address for the FACA database is http://www.facadatabase.gov/.

Amy McNulty,
Acting Director, Division of the Executive Secretariat.

[FR Doc. 2017-23528 Filed 10-27-17; 8:45 am]

BILLING CODE 4165-15-P